DEPARTMENT OF VETERANS AFFAIRS

Professional Certification and Licensure Advisory Committee; Notice of Meeting

The Department of Veterans Affairs (VA) gives notice under Public Law 92-463 (Federal Advisory Committee Act) that the Professional Certification and Licensure Advisory Committee will meet at the Department of Veterans Affairs, Education Service Conference Room 601V, 1800 G. St., NW., Washington DC, on Thursday, September 20, 2001, from 8:30 a.m. to 4 p.m., and from 8:30 a.m. to 12 p.m. on Friday, September 21, 2001. The agenda for this inaugural meeting will include overview of VA policies concerning approval of licensing and certification testing. The majority of this initial meeting will be dedicated to determining the functions of the Committee. Established by Public Law 106-419, the purpose of the Committee is to provide advice and counsel to the Secretary, Veterans Affairs on matters regarding the requirements of organizations or entities offering licensing and certification tests taken by individuals entitled to payment under VA's education and training programs. Those planning to attend the open meeting should contact Ms. Lynn M. Cossette or Mr. William G. Susling at (202) 273-7187 by September 14, 2001.

Dated: August 30, 2001.
By direction of the Secretary.
Nora E. Egan,
Committee Management Officer.

[FR Doc. 01-22468 Filed 9-6-01; 8:45 am]

BILLING CODE 8320-01-M